DEPARTMENT OF ENERGY

Federal Energy Regulatory Commission

[Docket No. RP04-12-004]

Florida Gas Transmission Company; Notice of Extension of Time

June 2, 2004.

On May 20, 2004, Florida Gas Transmission Company (FGT) filed a motion for an extension of time to file revised tariff language relating to a transportation pipeline as required by the Commission's Order on Rehearing, Clarification Compliance Filing, and Technical Conference issued April 20, 2004, in the above-docketed proceeding. In its motion, FGT requests an extension of time so that it can comply with this filing requirement in certain tariff language to be filed as part of a settlement agreement that parties to proceeding have agreed to in principle and that resolves all the issues in this proceeding.

Upon consideration, notice is hereby given that, as requested, FGT is granted an extension of time to file its revised tariff language to and including the date FGT files the settlement agreement in this proceeding.

Magalie R. Salas,
Secretary.

[FR Doc. E4-1284 Filed 6-8-04; 8:45 am]

BILLING CODE 6717-01-P